LEGAL SERVICES CORPORATION

Sunshine Act Notice of Meeting of the Legal Services Corporation Board of Directors' Search Committee for LSC Inspector General

Time and Date: Legal Services Corporation Board of Directors' Search Committee for LSC Inspector General will meet at 9:30 a.m., Eastern Daylight Time, on October 12, 2007.

LOCATION: The Georgetown Suites Hotel, 1111 30th Street, NW., Washington, DC.

STATUS OF MEETING: Closed. The transcript of any portions of the closed session falling within the relevant provision of the Government in Sunshine Act, 5 U.S.C. 552b(c)(2) and (6), and LSC's implementing regulation, 45 CFR 1622.5(a) and (e), will not be available for public inspection. The transcript of any portions not falling within either of these provisions will be available for public inspection.

Matters To Be Considered

Closed Session

1. Approval of Agenda.

2. Interviews of select candidates for the position of LSC Inspector General.

3. Review and discussion regarding qualifications of interviewed and other viable candidates.

4. Consider and act on further steps to be taken in connection with the selection and retention of a finalist for the position of Inspector General.

5. Consider and act on the selection of candidates to recommend to the Board of Directors for the Board's consideration.

6. Consider and act on adjournment of meeting.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

October 4, 2007.
Victor M. Fortuno,
Vice President for Legal Affairs, General Counsel & Corporate Secretary.

[FR Doc. 07-4996 Filed 10-4-07; 2:17 pm]

BILLING CODE 7050-01-P